DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 24, 2012. Address written comments to Statutory Import Programs Staff, Room 3720, U.S. Department of Commerce, Washington, DC 20230. Applications may be examined between 8:30 a.m. and 5 p.m. at the U.S. Department of Commerce in Room 3720.

Docket Number: 12-008. Applicant: Stevens Institute of Technology, Castle Point on Hudson, Hoboken, NJ 07030. Instrument: Electron Microscope. Manufacturer: FEI Company, Czech Republic. Intended Use: The instrument will be used to study the interfacial wetting phenomena and develop robust superhydrophobic surfaces for anti-corrosion and anti-icing surfaces. The experiments will involve the examination of evaporation, condensation, and icing of water droplets on nanostructured surfaces. Justification for Duty-Free Entry: There are no instruments of the same general category manufactured in the United States. Application accepted by Commissioner of Customs: March 8, 2012.

Docket Number: 12-009. Applicant: Humboldt State University Sponsored Programs Foundation, 1 Harpst St., Arcata, CA 95521. Instrument: Electron Microscope. Manufacturer: FEI Company, Czech Republic. Intended Use: The instrument will be used in research activities including olfactory epithelium of amphibians, plant gravitropism, analyses of high temperature and high pressure mineralogy and petrology experiments, analyses of the microstructures and rock textures formed in active fault zones, and the weathering properties of minerals and formation of soils. Justification for Duty-Free Entry: There are no instruments of the same general category manufactured in the United States. Application accepted by Commissioner of Customs: March 5, 2012.

Docket Number: 12-010. Applicant: Howard Hughes Medical Institute, 4000 Jones Bridge Rd., Chevy Chase, MD 20815. Instrument: Electron Microscope. Manufacturer: FEI Company, The Netherlands. Intended Use: The instrument will be used for medical research; the proteins to be studied are often malfunctioning in diseases such as diabetes, cancer and heath disease, and understanding how the proteins are built can help in understanding what goes wrong and help to design pharmaceuticals to correct the problem. The instrument will also be used to teach students in the use of electron microscopy for protein structure determination. Justification for Duty-Free Entry: There are no instruments of the same general category manufactured in the United States. Application accepted by Commissioner of Customs: March 19, 2012.

Docket Number: 12-012. Applicant: Alliance for Sustainable Energy, 1617 Cole Blvd. Golden, CO 80401-3305. Manufacturer: FEI Company, Czech Republic. Intended Use: The instrument will be used in part as rapid feedback for synthesis of inorganic solution fabricated nanocrystals. By allowing a user to image their sample immediately following synthesis, the tool will allow development of new material with better monodispersity, size and shape control. The main experiments to be conducted are imaging at low and high resolution, with additional capabilities such as material identification using EDAX and electron diffraction. Justification for Duty-Free Entry: There are no instruments of the same general category manufactured in the United States. Application accepted by Commissioner of Customs: March 19, 2012.

Docket Number: 12-014. Applicant: California Institute of Technology, 1200 E. California Blvd. Pasadena, CA 91125. Manufacturer: FEI Company, Czech Republic. Intended Use: The instrument will be used to study semiconductors and heterogeneous catalysts in order to accelerate the rate of discovery of Earth-abundant, robust materials that can capture and convert the energy of sunlight into chemical fuels. The objective is to quantitatively characterize material morphology, conductivity and composition, which will aid in analyzing results from performance testing via electrochemistry and other techniques. The instrument will enable higher-precision nano-micro scale images of the materials, and it will also allow elemental analysis and current mapping. Justification for Duty-Free Entry: There are no instruments of the same general category manufactured in the United States. Application accepted by Commissioner of Customs: March 19, 2012.

Docket Number: 12-015. Applicant: University of Nebraska-Lincoln, 1700 Y St., Lincoln, NE 68588. Manufacturer: FEI Company, Czech Republic. Intended Use: The instrument will be used for detailed characterization of surface and near-surface topography, dimensions, and elemental composition of chiral nanostructured hybrid materials, novel low work function and semiconducting materials, nanoscale hard magnet materials, as well as many other metals, ceramics, and composite materials. The properties to be studied are magnetic, electronic, mechanical, optical, and other properties that are enhanced or attained because the materials are nanoscale or novel in structure. Justification for Duty-Free Entry: There are no instruments of the same general category manufactured in the United States. Application accepted by Commissioner of Customs: March 21, 2012.

Docket Number: 12-016. Applicant: University of Nebraska-Lincoln, 1700 Y St., Lincoln, NE 68588-0645. Manufacturer: FEI Company, the Netherlands. Intended Use: The instrument will be used for detailed characterization of surface and near-surface topography, dimensions, and elemental composition of chiral nanostructured hybrid materials, novel low work function and semiconducting materials, nanoscale hard magnet materials, as well as many other metals, ceramics, and composite materials. The properties to be studied are magnetic, electronic, mechanical, optical, and other properties that are enhanced or attained because the materials are nanoscale or novel in structure. Justification for Duty-Free Entry: There are no instruments of the same general category manufactured in the United States. Application accepted by Commissioner of Customs: March 21, 2012.

Dated: March 28, 2012.
Gregory Campbell,
Director, IA Subsidies Enforcement Office.

[FR Doc. 2012-8117 Filed 4-3-12; 8:45 am]

BILLING CODE 3510-DS-P